DEPARTMENT OF HEALTH AND HUMAN SERVICES

Administration for Children and Families

[Program Announcement No. ACYF/HS-2003-16]

Fiscal Year 2003 Discretionary Announcement for Head Start—Higher Education Hispanic/Latino Service Partnerships: Availability of Funds and Request for Applications

AGENCY: Administration on Children, Youth and Families (ACYF), Administration for Children and Families (ACF), DHHS.

ACTION: Announcement of the availability of funds and request for applications for professional development and training grants for institutions of higher education in partnership with Head Start and Early Head Start programs to improve services to Hispanic/Latino children and their families.

CFDA #: The catalog of Federal Domestic Assistance Number is 93.600.

SUMMARY: The Administration for Children and Families (ACF), Administration on Children, Youth and Families (ACYF) announces the availability of up to $1,500,000 in funds for institutions of higher education with experience and capability in educating and preparing professionals to work effectively with Hispanic/Latino young children and families, in partnership with Head Start and Early Head Start programs. The purpose is to improve the quality and long-term effectiveness of Head Start and Early Head Start program services to Hispanic/Latino children and their families by developing academic and other training models and forming partnerships between institutions of higher education and Head Start and Early Head Start programs.

DATES: The closing date and time for receipt of application is 4:30 p.m. (Eastern Standard Time), August 18, 2003. Applications received after the closing date and time will be classified as late.

ADDRESSES: Mailed and hand-carried applications will be received at the following address: ACYF Operations Center, Head Start-Higher Education Hispanic/Latino Service Partnerships (HS-HEHLSPs), 1150 Connecticut Avenue, NW., Suite 1100, Washington, DC 20036, Telephone: 1-800-351-2293, E-mail: HSB@esilsg.org.

All packages should be clearly labeled as follows: Application for Head Start'Higher Education Hispanic/Latino Service Partnerships (HS-HEHLSPs).

FOR FURTHER INFORMATION CONTACT: The Head Start Discretionary Grant Support Team (1-800-351-2293—ACYF) is available to answer questions concerning application requirements. You may e-mail your questions to: HSB@esilsg.org. When contacting ACYF directly with programmatic questions send to William Wilson, Grants Officer, 330 C Street, SW., Washington, DC 20447, (202) 205-8913, wwilson@acf.hhs.gov.

If you are interested in submitting an application please send a post card or call at least two weeks prior to the submission deadline with the following information: the name, address, telephone and fax numbers, and e-mail address of the principle investigator and the name of the institution. This information will be used to determine the number of expert reviewers needed to evaluate applications. Send the declaration of interest information to: ACYF Operations Center, Head Start-Higher Education Hispanic/Latino Service Partnerships (HS-HEHLSPs), 1150 Connecticut Avenue, NW., Suite 1100, Washington, DC 20036, Telephone: 1-800-351-2293. E-mail: HSB@esilsg.org.

Copies of the program announcement, necessary application forms and appendices can be obtained by contacting the above address, and/or visiting the ACYF Web site at http://www.acf.hhs.gov/programs/hsb/grant/fundingopportunities/fundopport.htm.

Fiscal Year 2003 Discretionary Announcement for Head Start—Higher Education Hispanic/Latino Service Partnerships

Part I. Purpose and Background

A. Purpose

Through this announcement, the Administration on Children, Youth and Families (ACYF) is making available up to $1,500,000 annually for each of five (5) years to support Head Start “Higher Education Hispanic/Latino Service Partnerships (HS-HEHLSPs), which will be awarded through a competitive process. The HS-HEHLSPs initiative was developed in response to the White House Initiative on Hispanic Education. The purpose of HS-HEHLSPs is to improve the quality and long term effectiveness of Head Start and Early Head Start programs by developing academic and other training models through partnerships between institutions of higher education and Head Start/Migrant Head Start/Early Head Start agencies. The institutions of higher education that will be funded under this initiative, together with currently funded HS-HEHLSPs, will form a consortium to share methods, approaches, experiences, and lessons learned. The consortium is a partner of the Head Start National Training and Technical Assistance (T&TA) network in providing assistance to Head Start/Migrant Head Start/Early Head Start grantees. Proposed partnership agreements are expected to be designed to benefit both the institutions of higher education and the participating Head Start/Migrant Head Start/Early Head Start grantees. Moreover, proposed partnerships are expected to reflect the unique training needs of participating Head Start grantees, including the provision of training that is accessible and responsive to trainees.

B. Background

The overall goal of Head Start is to enhance the healthy development and school readiness of children from low-income families. In order to accomplish this goal, Head Start provides comprehensive services to low-income children and their families. Head Start enhances children's physical, intellectual, social, and emotional development. It supports parents in their efforts to fulfill their parental roles and provides for their involvement in implementing the Head Start program.

In an attempt to ensure quality services to low-income children and their families, Head Start has conducted many demonstration projects, provided grantees with training and technical assistance, and given grantees funds to implement their own training efforts. For example, Head Start supported the creation of the Child Development Associate (CDA) credential designed for early childhood development teaching staff. Head Start also implemented the Head Start Partnerships with Historical Black Colleges and Universities (HBCUs), the Head Start Partnerships with Tribally Controlled Land Grant Colleges and Universities (TCUs), and other innovative training and staff development projects.

In the 1998 reauthorization of the Head Start Act, a key priority of Congress and the Administration was to continue to improve Head Start program quality and accountability. A number of provisions were included in the new law to achieve these goals, including new education performance standards and measures, expansion of program monitoring to incorporate evidence of progress on outcome-based measures, expanded funding to upgrade program quality and staff compensation, and higher education standards for Head Start teachers. Among these provisions is the requirement that, by September 30, 2003, at least half of all Head Start teachers in center-based programs nationwide must have an AA, BA, or advanced degree in Early Childhood Education (ECE), or in a related field with pre-school teaching experience. A degree in a field related to early childhood education means a program of study that includes six or more courses in early childhood education and/or child development. Teachers who have degrees in related fields must also have experience teaching pre-school children.

The Head Start Bureau is providing a variety of forms of assistance to local Head Start programs to implement these new legislative mandates. For example, to support increasing the numbers of teachers with degrees in early childhood education, grantees received $43,000,000 in funding in Fiscal Year 2000 to increase teacher salaries and expand access to higher education courses and degree programs. Additionally, all Head Start grantees are allowed to use a portion of program funds awarded to provide staff development training to all Head Start staff.

In addition to these efforts, Head Start-State Collaboration Offices and training and technical assistance providers will help Head Start programs work with institutions of higher education on challenges such as linking training obtained in conjunction with the Child Development Associate credential with academic credit and courses leading to AA and BA degrees in early childhood education.

In January 2001, the President signed into law the “No Child Left Behind Act” to make the education of every child in America one of the country's top priorities. The Act seeks to ensure that public schools teach children what they need to know to be successful in life and that they also set high standards. In his 2002 State of the Union address, the President indicated the need to prepare our children to read and succeed in school, including the improvement of Head Start and early childhood development programs. In response to these goals, the White House has developed an early childhood initiative, which is built on raising the bar for Head Start Education through researched methods that create a better learning environment and improve outcomes for children. In his announcement of the Good Start, Grow Smart Early Childhood Initiative in April 2002, the President identified children's early literacy as a key focus for Head Start program improvement. In this initiative, the President presented three areas of focus for Head Start: (1) Strengthening Head Start programs; (2) partnering with states to improve early childhood education, and (3) providing information to teachers, caregivers, and parents. The Head Start Bureau quickly responded to the President's mandate by developing the Strategic Teacher Education Project (STEP) in June 2002. The purpose of Project STEP is to ensure that all Head Start teachers engage in research-based strategies to support children's early literacy and positive social and emotional development, which, in turn, will lead to positive child outcomes and school readiness.

Under this announcement, HEHLSPs must form a partnership with one or more Head Start/Migrant Head Start/Early Head Start grantees or delegate agencies, to develop age-appropriate and culturally appropriate curriculums and provide education and/or training to Head Start staff. The partnership agreements must be beneficial to both the HEHLSPs and the participating Head Start grantees.

All project applications must address one of the following priority areas:

1. Partnerships to increase the number of center-based teachers with two-year and four-year degrees in early childhood education, and

2. Partnerships to increase the competency of Head Start staff in building quality Head Start programs, particularly in enhancing language development, early literacy, and social-emotional development, as well as assessing child outcomes. The area of early literacy includes supporting non-English speaking children in making progress in both the home language and English.

Part II. Program Information and Requirements

A. Statutory Authority

The Head Start Act, as amended, 42 U.S.C. 9801 et seq.

B. Eligible Applicants

Institutions, including faith-based institutions, of higher education with experience and capability in educating and preparing professionals to work effectively with Hispanic/Latino young children and families are eligible to apply. Institutions that are currently funded under the Head Start-Higher Education Hispanic/Latino Service Partnerships are not eligible to apply under this announcement. These institutions are listed in Appendix A. Faith-based institutions planning to compete under this announcement must meet the same eligibility criteria as other applicants. Private, non-profit institutions are encouraged to submit with their applications the optional survey located under “Grant Manuals & Forms” at www.acf.hhs.gov/programs/ofs/forms.htm.

C. Project Duration

This announcement is soliciting applications for project periods of up to five (5) years. Awards, on a competitive basis, will be for a one (1) year budget period. Applications for continuation grants funded under these awards beyond the one-year budget, but within the five-year project period, will be reviewed in subsequent years on a non-competitive basis subject to the availability of funds, satisfactory performance by the grantee, and a determination that continued funding would be in the best interest of the Government.

D. Federal Share of Project Costs

It is anticipated that up to $1,500,000 in ACF funds will be available annually. The maximum Federal-share for each project is not to exceed $150,000 per year per project.

E. Number of Projects To Be Funded

It is anticipated that up to 10 projects will be funded.

F. Matching Requirement

There are no matching funds requirements, however applicants are encouraged to provide non-Federal contributions to the project.

Part III. Application Requirements

The following Uniform Project Description (UPD) has been approved by OMB under control number 0970-0139.

A. Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

B. General Instructions

ACF is particularly interested in specific factual information and statements of measurable goals in quantitative terms. Project descriptions are evaluated on the basis of substance, not length. Extensive exhibits are not required. Supporting information concerning activities that will not be directly funded by the grant or information that does not directly pertain to an integral part of the grant-funded activity should be placed in an appendix. Pages should be numbered and a table of contents should be included for each reference.

Introduction

Applicant shall prepare the project description statement in accordance with the following instructions and the specified evaluation criteria. The instructions give a broad overview of what your project description should include while the evaluation criteria expand and clarify more program-specific information that is needed.

a. Project Summary/Abstract

Provide a summary of the project description (a page or less) with reference to the funding request.

b. Objectives and Need for Assistance

Clearly identify the physical, economic, social, financial, institutional, and or problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

c. Results or Benefits Expected

Identify the results and benefits to be derived. For example, using a comprehensive review of the current literature, justify how the research questions and the findings will add new knowledge to the field or how it will improve services for children and families.

d. Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the proportion of data collection expected to be completed. When accomplishments cannot be quantified by activity or function, list them in chronological order to show the schedule of accomplishments and their target dates.

If any data are to be collected, maintained, and/or disseminated, clearance may be required from the U.S. Office of Management and Budget (OMB). This clearance pertains to any “collection of information that is conducted or sponsored by ACF. List organizations, cooperating entities, consultants, or other key individuals who will work on the project along with a short description of the nature of their effort or contribution.

C. Additional Information

Following are requests for additional information that need to be included in the application:

a. Staff and Position Data

Provide a job description for each key position and a biographical sketch for each key person. A biographical sketch will also be required for new key staff as appointed.

b. Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in section 501(c)(3) of the IRS code, or by providing a copy of the currently valid IRS tax exemption certificate, or by providing a copy of the articles of incorporation or similar document that clearly establishes non-profit status bearing the seal of the State in which the corporation or association is domiciled or a statement from a State taxing body, State attorney general, or other appropriate State official certifying the applicant organization has a non-profit status and none of the net earnings accrue to any private shareholders or individuals or any of the items in the subparagraphs immediately above for a State or national organization and a statement signed by the parent organization that the applicant organization is a local non-profit affiliate. Private-non-profit institutions are encouraged to submit with their application the optional survey located under “Grant Manuals and Forms” at http://www.acf.hhs.gov/programs/ofs/forms.htm.

c. Dissemination Plan

Provide a plan for distributing reports and other project outputs to colleagues and the public. Applicants must provide a description of the kind, volume and timing of distribution.

d. Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

D. General Budget Information

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

a. Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

b. Fringe Benefits

Description: Costs of employee fringe benefits unless treated as part of an approved indirect cost rate.

Justification: Provide a breakdown of the amounts and percentages that comprise fringe benefit costs such as health insurance, FICA, retirement insurance, taxes, etc.

c. Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored conferences should be detailed in the budget.

d. Equipment

Description: Costs of tangible, nonexpendable, personal property, having a useful life of more than one year and an acquisition cost of $5,000 or more per unit. However, an applicant may use its own definition of equipment provided that such equipment would at least include all equipment defined above.

Justification: For each type of equipment requested, provide a description of the equipment, the cost per unit, the number of units, the total cost, and a plan for use on the project, as well as use or disposal of the equipment after the project ends. An applicant organization that uses its own definition for equipment should provide a copy of its policy or section of its policy that includes the equipment definition.

e. Supplies

Description: Costs of all tangible personal property other than that included under the Equipment category.

Justification: Specify general categories of supplies and their costs. Show computations and provide other information that supports the amount requested.

f. Other

Enter the total of all other costs. Such costs, where applicable and appropriate, may include but are not limited to insurance, food, medical and dental costs (non-contractual), professional services costs, space and equipment rentals, printing and publication, computer use, training costs, such as tuition and stipends, staff development costs, and administrative costs.

Justification: Provide computations, a narrative description and a justification for each cost under this category.

g. Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

h. Total Direct Charges, Total Indirect Charges, Total Project Costs.

Self explanatory.

Part IV. Evaluation Criteria

A. Review Criteria

In considering how applicants will carry out the responsibilities addressed under this announcement, competing applications for financial assistance will be reviewed and evaluated against the following criteria:

Criterion 1. Approach (40 points)

(a) The extent to which the application outlines a sound and realistic plan of action pertaining to the scope of the project which details how the proposed work will be accomplished, including a timeline; lists of each organization, consultants, including the evaluator, or other key individuals who will work on the project along with a short description of the nature of their effort or contribution; and assures the adequacy of time devoted to the project by key staff;

(b) The extent to which the project approach, if successfully carried out, is likely to achieve the proposed project objectives; and

(c) The applicant's ability to fully describe the approach and/or methodology and delineate the relationship of each task to the accomplishment of the proposed objectives. There should be evidence that the planned approach reflects sufficient input from and partnership with Head Start/Migrant Head Start/Early Head Start and the HS-HEHLPSs.

Information provided in response to Part III, Section B. of this announcement will be used to evaluate applicants on this criterion.

The Head Start Bureau is particularly interested in the following aspects of the applications:

1. Describe the planning the applicant will conduct during the start-up period to prepare for implementation of the program. Provide assurance that no more than six months will be devoted to planning activities.

2. Indicate how Head Start staff will be recruited and selected to participate in the program, including staff from other child care organizations that are collaborating with Head Start grantees and delegate agencies and meet Head Start performance standards within a given community.

3. Describe how the training and coursework will be contextually and culturally relevant to the Head Start, Migrant Head Start and the Early Head Start environment and how it will contribute to enhancing the effectiveness of teachers, staff, program quality and outcomes for Head Start children and families.

4. Describe efforts by the institutions and Head Start partners to make training and/or coursework accessible to Head Start participants and to support their successful completion of courses, training, and degrees. Include a discussion of issues such as the timing, scheduling, and location of classes or training; support to enhance the literacy and study skills of participants; and approaches to integrate HS-HEHLSPs training in the working environment of the Head Start program.

5. Describe efforts to complement the Federal funds requested in this application with other resources to maximize the benefits to Head Start and HS-HEHLSPs participants. Include any efforts or plans to assist Head Start staff in accessing sources of financial assistance or to make use of other funding for training and career development of early childhood program staff. In addition, describe any proposed contributions of funds from local Head Start programs to the partnership. Provide assurance that trainees will not be required to bear any costs of participating in training.

6. In case of academic training, describe how previous CDA training and certification of Head Start staff, as well as previous coursework, credits or AA degrees from 2-year institutions, will be linked to academic credits and course sequences leading to BA degrees.

7. Describe the organizational structure that will support the project objectives. Indicate how joint planning and assessment with the Head Start, Migrant Head Start and Early Head Start grantees will be implemented with timelines and clear lines of responsibility. Indicate how staff positions are assigned and describe their major functions and responsibilities.

8. Describe the activities that will continue after the completion of this project that will ensure that the institutions will continue to participate in providing educational opportunities for Head Start, Migrant Head Start and Early Head Start staff.

9. Include support letters that document consultation and support from the proposed grantee or delegate agency partners, the Head Start State Collaboration Office, and any existing state level early childhood career development initiative.

Criterion 2. Results or Benefits Expected (20 points)

The extent to which the application identifies the results and benefits to be derived; describes the anticipated contribution to policy, practice, theory and/or research; specific benefits should be described for both the HS-HEHLSPs and Head Start/Migrant Head Start/Early Head Start partners.

Information provided in response to Part III, Section B. of this announcement will be used to evaluate applicants on this criterion.

The Head Start Bureau is particularly interested in the following aspects of the applications:

1. Based on the stated program objectives, identify the results and benefits to be derived. Identify the specific results or benefits that could be expected for the Head Start grantee(s) and the institution. Describe how the trainees benefit from the project.

2. Identify both qualitative and quantitative data the applicant will collect to measure progress towards the stated results or benefits. Identify how the program will determine the extent to which it has achieved its stated objectives.

3. To propose academic training, provide a projection of the estimated number of trainees, by category, who will earn degrees over the five year duration of the project based on an analysis of the current levels of credits/courses earned by participants and a proposed sequence of courses.

4. Propose new teaching methods for Head Start teachers and staff for teaching early literacy in the classrooms and enhancing parental skills to encourage children to read and succeed in school.

Criterion 3. Staff and Position Data (20 points)

Key staff should be qualified and knowledgeable of Head Start, Migrant Head Start and Early Head Start. The extent of the demonstrated capacity of the applicant organization, key leaders, managers, and project personnel to:

(1) Provide high quality, relevant, and responsive training to Head Start staff;

(2) Assure participating project staff are competent to plan and deliver appropriate course material to Head Start trainees that is culturally relevant;

(3) Manage the implementation of the training grant in an effective and timely manner; and

(4) Manage successful partnerships that involve sharing resources, staffing, and facilities.

Information provided in response to Part III, Section C. will be used to evaluate applicants on the above criterion.

Criterion 4. Objectives and Need for Assistance (10 Points)

The extent to which the application identifies relevant physical, economic, social, financial, institutional or other problems requiring a grant; demonstrates the need for assistance; and states the principal and subordinate objectives of the project consistent with the purposes of the program announcement.

Information provided in response to Part III, Section A. of this announcement will be used to evaluate applicants on this criterion.

The Head Start Bureau is particularly interested in the following aspects of the applications:

1. State the specific training objectives for the program. Indicate how these objectives are based on an assessment of staff training and program improvement needs of participant Head Start and Early Head Start agencies; how they related to Head Start goals, outcomes and policy priorities, and how they will enhance the quality of Head Start services to Hispanic/Latino children and their families.

2. Describe the process used to assess the needs for the proposed program design. Specifically identify the population to be served in terms of numbers and types of staff to be trained and the proposed areas of training, courses, and/or degrees to be awarded.

3. Describe the development of the HS-HEHLSPs agreement and other consultation related to the development of the proposed initiative. Describe any efforts to frame the proposed initiative within broader state or community efforts to enhance professional and career development for staff in all forms of early care and education programs.

Criterion 5. Budget and Budget Justification (10 Points)

The extent to which the project's costs are reasonable and appropriate in view of the activities to be carried out and the anticipated outcomes. Provide a line item detail for the costs of attendance of project staff to attend ACF-sponsored conferences in Washington, D.C. It is the expectation that applicants should limit budget projections to those costs necessary to build institutional capacity for and execute training and career development partnerships with participating Head Start grantees.

Information provided in response to Part III, Section D. of this announcement will be used to evaluate applicants on this criterion.

Applicable Administrative Regulations

Applicable administrative regulations include 45 CFR part 74, Administration of Grants, for profit agencies: and 45 CFR part 92, Uniform Administrative Requirements for Grants and Cooperative Agreements to State and local Governments.

Post-Award Reporting Requirements

Post-Award Reporting Requirements include submission of quarterly programmatic and budget reports. Program reports must clearly outline status on the accomplishment of stated goals and objectives. Financial reports must provide status of budget expenditures, as well as identifying any projected savings or shortages.

B. The Review Process

Applications received by the due date will be reviewed and scored competitively. Experts in the field, generally persons from outside the Federal government, will use the evaluation criteria listed in Part IV of this announcement to review and score the applications. The results of this review are a primary factor in making funding decisions.

Part V. The Application Process

A. Required Forms

Eligible applicants interested in applying for funds must submit a complete application including the required forms included at the end of this program announcement in Appendix A. In order to be considered for a grant under this announcement, an application must be submitted on the Standard Form 424 (approved by the Office of Management and Budget under Control Number 0348-0043). A copy has been provided. Each application must be signed by an individual authorized to act for the applicant and to assume responsibility for the obligations imposed by the terms and conditions of the grant award. Applicants requesting financial assistance for non-construction projects must file the Standard Form 424B, Assurances: Non-Construction Programs (approved by the Office of Management and Budget under control number 0348-0040). Applicants must sign and return the Standard Form 424B with their application. Applicants must provide a certification concerning lobbying. Prior to receiving an award in excess of $100,000, applicants shall furnish an executed copy of the lobbying certification (approved by the Office of Management and Budget under control number 0348-0046). Applicants must sign and return the certification with their application. Applicants must make the appropriate certification of their compliance with the Drug-Free Workplace Act of 1988. By signing and submitting the application, applicants are providing the certification and need not mail back the certification with the application.

Applicants must make the appropriate certification that they are not presently debarred, suspended or otherwise ineligible for award. By signing and submitting the application, applicants are providing the certification and need not mail back the certification with the application.

Applicants must also understand that they will be held accountable for the smoking prohibition included within Pub. L. 103-227, part C Environmental Tobacco Smoke (also known as The Pro-Children's Act of 1994). A copy of the Federal Register notice that implements the smoking prohibition is included with the forms. By signing and submitting the application, applicants are providing the certification and need not mail back the certification with the application.

All applicants for research projects must provide a Protection of Human Subjects Assurance as specified in the policy described on the HHS Form 596 (approved by the Office of Management and Budget under control number 0925-0418) in Appendix A). If there is a question regarding the applicability of this assurance, contact the Office for Protection from Research Risks of the National Institutes of Health at (301) 496-7041. Those applying for or currently conducting research projects are further advised of the availability of a Certificate of Confidentiality through the National Institute of Mental Health of the Department of Health and Human Services. To obtain more information and to apply for a Certificate of Confidentiality, contact the Division of Extramural Activities of the National Institute of Mental Health at (301) 443-4673.

B. Application Limits

The application should be double-spaced and single-sided on 8½″ x 11″ plain white paper, with 1″ margins on all sides. Use only a standard size font no smaller than 12 pitch throughout the proposal. All pages of the application (including appendices, resumes, charts, references/footnotes, tables, maps and exhibits) must be sequentially numbered, beginning on the first page after the budget justification, the principal investigator contact information and the Table of Contents. The length of the application, starting with page 1 as described above and including appendices and resumes, should not exceed 65 pages; the project summary should not be counted in the 65 pages. Applicants are requested not to send pamphlets, brochures, or other printed material along with their applications as these pose copying difficulties. These materials, if submitted, will not be included in the review process. In addition, applicants must not submit any additional letters of endorsement beyond any that may be required. Applicants may omit from the application copies (not the original) specific salary rates or amounts for individuals specified in the application budget and social security numbers if otherwise required for individuals. The copies may include summary salary information.

Applicants are encouraged to submit curriculum vitae using “Biographical Sketch” forms used by some government agencies.

Please note that applicants that do not comply with the requirements in the section on “Eligible Applicants” will not be included in the review process.

C. Checklist for a Complete Application

The checklist below is for your use to ensure that the application package has been properly prepared.

—One original, signed and dated application plus two copies.

—Attachments/Appendices, when included, should be used only to provide supporting documentation such as resumes, and letters of agreement/support.

Front Matter

• Cover Letter.

• Table of Contents.

• Project Abstract.

(1) Application for Federal Assistance (SF424, Rev, 4-92).

(2) Budget information-non-construction programs (SF424, A&B).

(3) Budget Justification, including subcontract agency budgets.

(4) Letter(s) from the Head Start, Migrant Head Start or Early Head Start Program certifying that the program is a partner of the institution.

(5) Application Narrative and Appendices.

(6) Assurances Non-Construction Program.

(7) Certification Regarding Lobbying.

(8) Where appropriate, a completed Single Point of Contact (SPOC) certification with the date of SPOC contact entered in line 16, page 1 of the SF424, REV. 4-92.

(9) Certification of Protection of Human Subjects.

D. Due Date for the Receipt of Applications

1. Deadline: The closing date for the receipt of applications is 4:30 p.m. (EDT) August 20, 2003 at: ACYF Operations Center, 1150 Connecticut Avenue, NW., Suite 1100, Washington, DC 20036, Telephone: 1-800-351-2293, E-mail: HSB@esilsg.org.

Application for Head Start Discretionary Grants: Head Start-Higher Education Hispanic/Latino Service Partnerships (HS-HEHLSPs). Applicants will receive a confirmation postcard upon receipt of their application package.

Applications hand carried by applicants, applicant couriers, or by overnight/express mail couriers shall be delivered between the hours of 8 a.m. and 5 p.m., Monday-Friday (excluding holidays) at the address above. (Applicants are cautioned that express/overnight mail services do not always deliver as agreed.) ACF cannot accommodate transmission of applications by fax or e-mail. Therefore, applications faxed or e-mailed to ACF will not be accepted.

2. Late applications: Applications which do not meet the criteria above are considered late applications. ACF shall notify each late applicant that its application will not be considered in the current competition.

3. Extension of deadlines: ACF may extend an application deadline for applicants affected by acts of God such as floods and hurricanes, or where there is widespread disruption of the mail. A determination to waive or extend deadline requirements rests with the Chief Grants Management Officer.

E. Paperwork Reduction Act of 1995

Under the Paperwork Reduction Act of 1995, Public Law 104-13, the Department is required to submit to OMB for review and approval any reporting and record keeping requirements in regulations including program announcements. All information collections within this program announcement are approved under OMB control number 0970-0139 which expires 12/31/2003.

Public reporting burden for this collection is estimated to average 10 hours per response, including the time for reviewing instructions, gathering and maintaining the data needed and reviewing the collection of information.

An agency may not conduct or sponsor and a person is not required to respond to, a collection of information unless it displays a currently valid OMB control number.

F. Required Notification of the State Single Point of Contact

This program is covered under Executive Order 12372, Intergovernmental Review of Federal Programs, and 45 CFR part 100, Intergovernmental Review of Department of Health and Human Services Program and Activities. Under the Order, States may design their own processes for reviewing and commenting on proposed Federal assistance under covered programs. All States and Territories except Alabama, Alaska, Arizona, Colorado, Connecticut, Hawaii, Idaho, Indiana, Kansas, Louisiana, Massachusetts, Minnesota, Montana, Nebraska, New Jersey, Ohio, Oklahoma, Oregon, Pennsylvania, South Dakota, Tennessee, Vermont, Virginia, Washington, Wyoming, Palau, have elected to participate in the Executive Order process and have established Single Points of Contact (SPOCs). Applicants from these twenty-six jurisdictions need take no action regarding E.O. 12372. Applicants for projects to be administered by Federally-recognized Indian Tribes are also exempt from the requirements of E.O. 12372.

All remaining jurisdictions participate in the Executive Order process and have established SPOCs. Applicants from participating jurisdictions should contact their SPOCs as soon as possible to alert them of the prospective applications and receive instructions. The applicant must submit all required materials, if any, to the SPOC and indicate the date of the submittal (or the date of contact if no submittal is required) on the Standard Form 424, item 16a. Under 45 CFR 100.8(a)(2), a SPOC has 60 days from the application deadline to comment on proposed new or competing continuation awards. Applicants must submit any required material to the SPOCs as soon as possible so that the Federal program office can obtain and review SPOC comments as part of the award process. A listing of the SPOC for each participating state and territory with contact and address information is available at http://whitehouse.gov/omb/grants/spoc.html.

Under 45 CFR 100.8(a)(2), a SPOC has 60 days from the application deadline to comment on proposed new or competing continuation awards. SPOCs are encouraged to eliminate the submission of routine endorsements as official recommendations.

Additionally, SPOCs are requested to clearly differentiate between mere advisory comments and those official State process recommendations that may trigger the accommodation or explain rule.

When comments are submitted directly to ACF, they should be addressed to: William Wilson, Head Start Bureau, 330 C Street, SW., Washington, DC 20447, Attn: Head Start-Higher Education Hispanic/Latino Service Partnerships. A list of the Single Points of Contact (SPOCs) for each State and Territory can be found on the following Web site: http://www.whitehouse.gov/omb/grants/spoc.html.

Dated: July 10, 2003.
Joan E. Ohl,
Commissioner, Administration on Children, Youth and Families.

Appendix A—List of Current Head Start—Higher Education Hispanic/Latino Service Partnerships

FY 2000 Institutions
(expiring 2004)
1. Aims Community College | Colorado.
2. CSU—Bakersfield | California.
3. CSU—Northridge | California.
4. CSU—San Marcos | California.
5. Fresno City College | California.
6. Portland Community College | Oregon.
7. University of Texas-Pan American | Texas.
FY 2001 Institutions
(expiring 2005)
1. Bronx Community College | New York.
2. Hartnell Community College | California.
3. Michigan State University | Michigan.
4. The University of Texas-San Antonio | Texas.
5. Yosemite Community College District/Modesto Junior College | California.

[FR Doc. 03-18166 Filed 7-18-03; 8:45 am]

BILLING CODE 4184-01-P